DEPARTMENT OF THE INTERIOR

Bureau of Land Management

[UTU-81053]

Notice of Invitation To Participate in Coal Exploration Program

AGENCY: Bureau of Land Management, Interior.

ACTION: Notice of Invitation to participate in Coal Exploration program Canyon Fuel Company, LLC, Muddy Tract, in Muddy Creek—Greens Hollow Area. Canyon Fuel Company is inviting all qualified parties to participate in its proposed exploration of certain Federal coal deposits in Sanpete and Sevier Counties, Utah.

SUPPLEMENTARY INFORMATION: This notice of invitation to participate in Coal Exploration program Canyon Fuel Company, LLC, Muddy Tract, Muddy Creek—Greens Hollow Area. Canyon Fuel Company, LLC is inviting all qualified parties to participate in its proposed exploration of certain Federal coal deposits in the following described lands in Sanpete and Sevier Counties, Utah:

T. 20 S., R. 5 E., SLM, Utah

Sec. 20, SE;

Sec. 29, All;

Sec. 32, N2;

Sec. 33, NW.

Containing 1,280.00 acres.

Any party electing to participate in this exploration program must send written notice of such election to the Bureau of Land Management, Utah State Office, P.O. Box 45155, Salt Lake City, Utah 84145, and to Mark Bunnell, Mine Geologist, Canyon Fuel Company, LLC, Skyline Mine, HC 35 Box 380, Helper, Utah 84526. Such written notice must be received within thirty days after publication of this notice in the Federal Register.

Any party wishing to participate in this exploration program must be qualified to hold a lease under the provisions of 43 CFR 3472.1 and must share all cost on a pro rata basis.

An exploration plan submitted by Canyon Fuel Company, LLC, detailing the scope and timing of this exploration program is available for public review during normal business hours in the public room of the BLM State Office, 324 South State Street, Salt Lake City, Utah, under serial number UTU-81053.

FOR FURTHER INFORMATION CONTACT: Bill Buge, Salt Lake City, Bureau of Land Management, (801) 539-4086.

Kent Hoffman,
Deputy State Director, Lands and Minerals.

[FR Doc. 04-11378 Filed 5-19-04; 8:45 am]

BILLING CODE 4310-$$-P